SECURITIES AND EXCHANGE COMMISSION

Sunshine Act Meeting

Notice is hereby given, pursuant to the provisions of the Government in the Sunshine Act, Public Law 94-409, that the Securities and Exchange Commission will hold the following meeting during the week of November 17, 2003:

An Open Meeting will be held on Wednesday, November 19, 2003 at 2 p.m., in Room 1C30, the William O. Douglas Room.

The subject matter of the Open Meeting scheduled for Wednesday, November 19, 2003 will be:

The Commission will consider whether to adopt amendments to Schedule 14A and Forms 10-Q, 10-QSB, 10-K, and 10-KSB under the Securities Exchange Act of 1934, and Form N-CSR under the Securities Exchange Act of 1934 and the Investment Company Act of 1940. The amendments would require expanded disclosure related to the operation of board nominating committees and new disclosure concerning security holder communications with board members.

For further information, please contact Lillian Brown at (202) 824-5250.

At times, changes in Commission priorities require alterations in the scheduling of meeting items. For further information and to ascertain what, if any, matters have been added, deleted or postponed, please contact: The Office of the Secretary at (202) 942-7070.

Dated: November 12, 2003.
Jonathan G. Katz,
Secretary.

[FR Doc. 03-28707 Filed 11-12-03; 3:45 pm]

BILLING CODE 8010-01-P